DEPARTMENT OF COMMERCE

Bureau of the Census

15 CFR Part 30

[Docket Number: 170606545-7857-01]

RIN 0607-AA56

Foreign Trade Regulations (FTR): Request for Public Comments Regarding Standard and Routed Export Transactions

AGENCY: Bureau of the Census, Commerce Department.

ACTION: Advance notice of proposed rulemaking.

SUMMARY: The Bureau of the Census (U.S. Census Bureau) is seeking public comments to perform a review of the requirements governing routed export transactions. In particular, the Census Bureau is interested in comments regarding the definition of a routed export transaction as well as the responsibilities of parties in routed export transactions. Routed export transactions are transactions in which the Foreign Principal Party in Interest (FPPI) controls the movement of the goods out of the country. There are a variety of reasons why the FPPI assumes this responsibility such as the use of a preferred carrier and the desire to not disclose the ultimate consignee to the U.S. Principal Party in Interest (USPPI), although the ultimate consignee is properly identified to the U.S. Government. Because the FPPI controls the movement of the goods in a routed transaction and cannot file Electronic Export Information (EEI), the Census Bureau requires the FPPI to authorize a U.S. authorized agent or the USPPI to file the EEI on its behalf. This ensures that the Census Bureau collects the statistical information.

DATES: Written comments must be received on or before December 5, 2017.

ADDRESSES: Please direct all written comments on this advance notice of proposed rulemaking to the Chief, International Trade Management Division, U.S. Census Bureau, Room 5K158, Washington, DC 20233-6010. You may also submit comments, identified by RIN number 0607-AA56, to the Federal e-Rulemaking Portal: http://www.regulations.gov. All comments received are part of the public record. No comments will be posted to http://www.regulations.gov for public viewing until after the comment period has closed. Comments will generally be posted without change. All Personally Identifiable Information (for example, name and address) voluntarily submitted by the commentor may be publicly accessible. Do not submit Confidential Business Information or otherwise sensitive or protected information. The Census Bureau will accept anonymous comments (enter N/A in the required fields, if you wish to remain anonymous). You may submit attachments to electronic comments in Microsoft Word, Excel, WordPerfect, or Adobe PDF file formats only.

FOR FURTHER INFORMATION CONTACT: Dale C. Kelly, Chief, International Trade Management Division, U.S. Census Bureau, Room 5K158, Washington, DC 20233-6010, by phone (301) 763-6937, by fax (301) 763-8835, or by email dale.c.kelly@census.gov.

SUPPLEMENTARY INFORMATION:

Background

The Census Bureau is responsible for collecting, compiling, and publishing export trade statistics for the United States under the provisions of Title 13, United States Code (U.S.C.), Chapter 9, Section 301. The Automated Export System (AES), now part of the Automated Commercial Environment (ACE), is the primary instrument used for collecting export trade data. Through the AES, the Census Bureau collects Electronic Export Information (EEI), the electronic equivalent of the export data formerly collected on the Shipper's Export Declaration (SED), reported pursuant to the Foreign Trade Regulations (FTR), Title 15, Code of Federal Regulations (CFR), part 30. The EEI consists of data elements as set forth in 15 CFR 30.6 for an export shipment, and includes information such as the U.S. Principal Party in Interest's (USPPI's) name, address, and identification number, and detailed information concerning the exported product. The party responsible for the accuracy and timeliness of EEI data elements varies depending upon the type of export transaction; standard or routed. Through this notice, the Census Bureau is seeking public comments to perform a review of the requirements governing routed export transactions, a subset of export transactions, as detailed in the FTR, 15 CFR, part 30.

Request for Comments

The Census Bureau is soliciting comments on the clarity, usability, and any other matters related to the regulatory requirements for routed transactions. This will include the definition of a routed export transaction found in 15 CFR 30.1 as well as the general responsibilities of parties in routed export transactions as detailed in 15 CFR 30.3. Suggested questions are below; however, any pertinent feedback not captured by these questions is also welcome:

1. If you do not think that the definition of a routed export transaction in 15 CFR 30.1 is clearly stated, then what definition of routed export transaction would you suggest?

2. Should the Census Bureau modify the list of data elements at 15 CFR 30.3(e)(2) that the U.S. authorized agent is required to provide when filing the electronic export information? If so, what changes would you suggest?

3. Should the Census Bureau modify the list of data elements at 15 CFR 30.3(e)(1) that the U.S. Principal Party in Interest is required to provide to the U.S. Authorized agent? If so, what changes would you suggest?

4. The carrier's responsibilities under the FTR are the same in both standard and routed transactions. Does the FTR clearly communicate these responsibilities? If not, what clarification would you suggest?

5. The data elements that the USPPI and U.S authorized agent are required to provide are currently located in Section 30.3(e) of the FTR. However, additional data elements are needed to complete the AES filing. Below is a list of data elements that are required to be reported but for which a responsible party is not listed. Please provide comments on which party, the USPPI or the U.S. authorized agent, should report these data elements.

Hazardous material indicator | routed export transaction indicator | KPC number
FTZ identifier | vehicle title number | related party indicator
shipment reference number | vehicle title state code | export information code
VIN/product ID | filing option indicator |

6. Are the responsibilities of parties in a routed export transaction clearly stated? If not, what improvements would you suggest?

7. How could we improve the process to authorize filing in a routed export transaction?

8. How could the FTR be revised to align with the Bureau of Industry and Security's Export Administration Regulations on routed export transactions?

9. What changes would you suggest in Section 30.3 of the FTR that might improve the parties' understanding of the requirements of a routed export transaction?

10. What changes would you suggest in Section 30.3 of the FTR that might improve the parties' understanding of their roles in a routed or standard export transaction?

Dated: September 29, 2017.
Ron S. Jarmin,
Associate Director for Economic Programs, Performing the Non-Exclusive Functions and Duties of the Director, Bureau of the Census.

[FR Doc. 2017-21569 Filed 10-5-17; 8:45 am]

BILLING CODE 3510-07-P